DEPARTMENT OF THE TREASURY

Alcohol and Tobacco Tax and Trade Bureau

Proposed Information Collections; Comment Request

AGENCY: Alcohol and Tobacco Tax and Trade Bureau; Treasury.

ACTION: Notice and request for comments.

SUMMARY: As part of our continuing effort to reduce paperwork and respondent burden, and as required by the Paperwork Reduction Act of 1995, we invite comments on the proposed or continuing information collections listed below in this notice.

DATES: We must receive your written comments on or before November 26, 2013.

ADDRESSES: You may send comments to Rita D. Butler, Alcohol and Tobacco Tax and Trade Bureau, at any of these addresses:

• U.S. mail: 1310 G Street NW., Box 12, Washington, DC 20005;

• Hand delivery/courier in lieu of mail: 1310 G Street NW., Suite 200E, Washington, DC 20005;

• 202-453-2794 (facsimile); or

• formcomments@ttb.gov (email).

Please send separate comments for each specific information collection listed below. You must reference the information collection's title, form or recordkeeping requirement number, and OMB number (if any) in your comment. If you submit your comment via facsimile, please send no more than five 8.5 x 11 inch pages in order to ensure that our equipment is not overburdened.

FOR FURTHER INFORMATION CONTACT: To obtain additional information, copies of the information collection and its instructions, or copies of any comments received, contact Rita D. Butler, Alcohol and Tobacco Tax and Trade Bureau, 1310 G Street, NW., Box 12, Washington, DC 20005; or telephone 202-453-1039, ext. 101.

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following TTB forms and recordkeeping requirements:

Title: Signing Authority for Corporate Officials.

OMB Control Number: 1513-0036.

TTB Form Number: 5100.1.

Abstract: TTB F 5100.1 is used to document the authority of an individual or office to sign for the corporation in TTB matters. The form identifies the corporation/LLC and the individual or office authorized to sign, and documents the authorization.

Current Actions: We are submitting this information collection as a revision. The estimated number of respondents and the estimated total annual burden hours have increased due to an increase in the number of industry members submitting this form.

Type of Review: Revision of a currently approved collection.

Affected Public: Business or other for-profit.

Estimated Number of Respondents: 4,200.

Estimated Total Annual Burden Hours: 910.

Title: Monthly Report of Processing Operations.

OMB Control Number: 1513-0041.

TTB Form Number: 5110.28.

TTB Recordkeeping Number: 5110/03.

Abstract: The information collected accounts for and verifies the processing of distilled spirits in bond. It is used to monitor proprietor activities, in auditing plant operations, and for compiling statistics.

Current Actions: We are submitting this information collection as a revision. Changes to the supporting statement reflect changes to regulatory section numbers contained in the final rule that revised 27 CFR Part 19, Distilled Spirits Plants (see T.D. TTB-92, February 16, 2011, 76 FR 9080). The estimated total annual burden hours have increased as a result of an increase in the number of industry members submitting this form.

Type of Review: Revision of a currently approved collection.

Affected Public: Business or other for-profit.

Estimated Number of Respondents: 935.

Estimated Total Annual Burden Hours: 22,440.

Title: Application for Registration for Tax-Free Transactions Under 26 U.S.C. 4221.

OMB Control Number: 1513-0095.

TTB Form Number: 5300.28.

Abstract: Businesses and State and local governments apply for registration to sell or purchase firearms or ammunition tax-free on this form. TTB uses this form to determine if a transaction is qualified for tax-free status.

Current Actions: We are submitting this information collection request as a revision. The estimated total annual burden hours have decreased as a result of a decrease in the number of industry members submitting this form.

Type of Review: Revision of a currently approved collection.

Affected Public: Business or other for-profit; State, local, and Tribal Government.

Estimated Number of Responses: 60.

Estimated Total Annual Burden Hours: 150.

Dated: September 24, 2013.
Rochelle E. Stern,
Director, Regulations and Rulings Division.

[FR Doc. 2013-23644 Filed 9-26-13; 8:45 am]

BILLING CODE 4810-31-P